DEPARTMENT OF DEFENSE

Department of the Army; Corps of Engineers

Board on Coastal Engineering Research

AGENCY: Department of the Army, DoD.

ACTION: Notice of meeting.

SUMMARY: In accordance with Section 10(a)(2) of the Federal Advisory Committee Act (Pub. L. 92-463), announcement is made of the following committee meeting:

Name of Committee: Board on Coastal Engineering Research.

Date of Meeting: September 18-20, 2012.

Place: Starboard/Windward Ballroom, Wyndham Jacksonville Riverwalk, 1515 Prudential Drive, Jacksonville, FL 32207.

Time: 8 a.m. to 5:20 p.m. (September 18, 2012).

8:30 a.m. to 12:50 p.m. (September 19, 2012).

8 a.m. to 12 p.m. (September 20, 2012).

FOR FURTHER INFORMATION CONTACT: Inquiries and notice of intent to attend the meeting may be addressed to COL Kevin J. Wilson, Executive Secretary, U.S. Army Engineer Research and Development Center, Waterways Experiment Station, 3909 Halls Ferry Road, Vicksburg, MS 39180-6199.

SUPPLEMENTARY INFORMATION: The Board provides broad policy guidance and review of plans and fund requirements for the conduct of research and development of research projects in consonance with the needs of the coastal engineering field and the objectives of the Chief of Engineers.

Proposed Agenda: The goal of the meeting is to review the coastal engineering challenges within the southeast Atlantic coastal system, focusing on how Regional Sediment Management can help to bridge multi-purpose and multi-agency missions and to identify the research and technology that is needed to help Districts and the Nation meet those challenges. Presentations and panel presentations on Tuesday, September 18, will include Overview of Florida Projects, Investigating the Effect of Oil Spills on the Environment and Human Health, and panel presentations dealing with Challenges to Ports and Navigation and Challenges to Beaches and Coastal Risk. Presentations dealing with Challenges to Ports and Navigation include Strategic Environmental Issues in Southeastern Dredging Operations; Mobile Bay Sediment Management Program; Charleston Harbor: Lessons Learned and Future Challenges dealing with Coastal and Navigation Structures and Asset Management; GenCade—North Carolina Regional Sediment Management and Ports; and a question and answer portion on the Southeast Ports and Navigation. Presentations dealing with Challenges to Beaches and Coastal Risk include the Wilmington Project; Brevard County, Working with the Federal Coastal Project Process; Florida Regional Sediment Management; Florida Regional Sediment Management: How is State Implementing RSM Now and SAND Report and How Fines (Sand Rule) are Managed; Florida Department of Environmental Protection—Where is State Headed; 2004 Florida Hurricane Season and Overview of the Shore Protection and Analysis Program; Herbert Hoover Dike—Coastal Risk; Existing Technology and the Condensed Planning Process; and Coastal Mapping and Change Analysis. A luncheon speaker from the American Shore and Beach Preservation Association is scheduled.

On Wednesday morning, September 19, 2012, panel presentations dealing with Challenges to the Ecosystem include St. Johns River Water Supply Impact Study, Jacksonville Mile Point—Beneficial Use of Dredged Material for Ecosystem Restoration/Mitigation, Martin County Turtle Friendly Beach Design, Wilmington Offshore Fisheries Enhancement Structure, and Engineering with Nature. There will be an optional field trip Wednesday afternoon evening.

The Board will meet in Executive Session to discuss ongoing initiatives and actions on Thursday morning, September 20, 2012.

These meetings are open to the public. Participation by the public is scheduled for 11 a.m. on Wednesday, September 19, 2012.

The entire meeting and field trip are open to the public, but since seating capacity is limited, advance notice of attendance is required. Oral participation by public attendees is encouraged during the time scheduled on the agenda; written statements may be submitted prior to the meeting or up to 30 days after the meeting.

William D. Martin,
Director, Coastal and Hydraulics Laboratory, U.S. Army Engineer Research and Development Center.

[FR Doc. 2012-21405 Filed 8-29-12; 8:45 am]

BILLING CODE 3720-58-P